DEPARTMENT OF LABOR

Mine Safety and Health Administration

Petitions for Modification of Existing Mandatory Safety Standards

AGENCY: Mine Safety and Health Administration (MSHA), Labor.

ACTION: Notice.

SUMMARY: Section 101(c) of the Federal Mine Safety and Health Act of 1977 and 30 CFR Part 44 govern the application, processing, and disposition of petitions for modification. This notice is a summary of petitions for modification filed by the parties listed below to modify the application of existing mandatory safety standards published in Title 30 of the Code of Federal Regulations.

DATES: All comments on the petitions must be received by the Office of Standards, Regulations and Variances on or before January 26, 2011.

ADDRESSES: You may submit your comments, identified by “docket number” on the subject line, by any of the following methods:

1. Electronic Mail: zzMSHA-comments@dol.gov. Include the docket number of the petition in the subject line of the message.

2. Facsimile: 1-202-693-9441.

3. Regular Mail: MSHA, Office of Standards, Regulations and Variances, 1100 Wilson Boulevard, Room 2350, Arlington, Virginia 22209-3939, Attention: Patricia W. Silvey, Director, Office of Standards, Regulations and Variances.

4. Hand-Delivery or Courier: MSHA, Office of Standards, Regulations and Variances, 1100 Wilson Boulevard, Room 2350, Arlington, Virginia 22209-3939, Attention: Patricia W. Silvey, Director, Office of Standards, Regulations and Variances.

MSHA will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Barbara Barron, Office of Standards, Regulations and Variances at 202-693-9447 (Voice), barron.barbara@dol.gov (E-mail), or 202-693-9441 (Telefax). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modification.

II. Petitions for Modification

Docket Number: M-2010-037-C.

Petitioner: Lone Mountain Processing, Inc., Drawer C, St. Charles, Virginia 24282.

Mine: Huff Creek No. 1 Mine, MSHA I.D. No. 15-17234, located in Harlan County, Kentucky.

Regulation Affected: 30 CFR 75.364(b)(2) (Weekly examination).

Modification Request: The petitioner requests a modification of the existing standard to permit at least one entry of each return air course to be examined in its entirety so that the entire air course is traveled every 7 days, due to adverse roof, rock falls, and floor heave conditions in the return entry in the C-Mains resulting from multi-seam mining and unfavorable geological conditions. The petitioner proposes to: (1) Establish two evaluation points for weekly evaluation of the affected area, located at break 42 and break 64 in the C-Mains panel to monitor air quality and quantity entering and exiting the affected area; (2) have a certified person examine each of the evaluation points at least every 7 days, including: (i) Examine for hazards on the approaches to and at the evaluation points; (ii) evaluate and measure the quality and quantity of air flowing past the evaluation points; (iii) measure the air quality for methane, oxygen, and carbon monoxide concentrations using an approved hand-held device; (iv) measure air quantity using an appropriately calibrated anemometer. Methane gas or other harmful, noxious, or poisonous gases will not be permitted to accumulate in excess of legal limits for a return air course; (iv) immediately examine and evaluate the evaluation points where there is an increase of 0.5 percent methane above the previous reading or a 10 percent unplanned change in the airflow quantity from the previous reading to determine the cause; (v) take appropriate corrective action and determine a new initial airflow to serve as the basis for subsequent evaluations; (vi) provide a date board at each evaluation point where the certified examiner will record the date, time, his or her initials, and the measured quantity and quality of the air entering the affected area; and (vii) record the results of each weekly examination in a book maintained on the surface. (3) submit an annual ventilation map that will show the permanent ventilation controls and evaluation points in accordance with 30 CFR 75.372; and (4) maintain in safe condition at all times, all evaluation points and approaches to the evaluation points, and adequately support the roof by suitable means to prevent deterioration in the vicinity of the evaluation points. The petitioner asserts that the proposed alternative method will at all times guarantee no less than the same measure of protection afforded by the appropriate portion of the existing standard.

Docket Number: M-2010-038-C.

Petitioner: Enlow Fork Mining Company, 1000 Consol Energy Drive, Canonsburg, Pennsylvania 15317.

Mine: Enlow Fork Mine, MSHA I.D. No. 46-07416, located in Greene County, Pennsylvania.

Regulation Affected: 30 CFR 75.503 (Permissible electric face equipment; maintenance) and 18.35(a)(5)(i) and (ii) (Portable trailing cables and cords).

Modification Request: The petitioner requests a modification of the existing standard to permit the maximum length of trailing cables to be increased to 900 feet for supplying power to loading machines used in the Enlow Fork Mine. The petitioner states that:

(1) Longwall development panels are being developed at the mine as part of a continuing mining cycle; (2) the longwall development panels consist of a three-entry system with 275-foot deep cuts to improve roof and abutment pressure control during longwall mining; (3) ventilation is improved by limiting the number of stoppings, which have a built-in ventilation pressure loss factor; (4) this petition will only apply to trailing cables supplying three-phase 995-volt power to loading machines; (5) the maximum lengths of the trailing cables will be 900 feet, and the trailing cables will not be smaller than #2 American Wire Gauge (AWG); (6) all circuit breakers used to protect #2 AWG trailing cables exceeding 700 feet in length will have instantaneous trip units calibrated to trip at 800 Amperes. The trip setting of the circuit breakers will be sealed or locked, and will have permanent, legible labels. Each label will identify the circuit breaker as being suitable for protecting #2 AWG cables and the label will be maintained legible; (7) replacement instantaneous trip units used to protect #2 AWG trailing cables will be calibrated to trip at 800 Amperes and this setting will be sealed or locked; (8) during each production day, persons designated by the operator will visually examine the trailing cables to ensure that the cables are in safe operating condition and that the instantaneous settings of the specially calibrated breakers do not have seals or locks removed and that they do not exceed the settings of 800 Amperes; (9) any trailing cable that is not in safe operating condition will be removed from service immediately and repaired or replaced; (10) each splice or repair in the trailing cables will be made in a workmanlike manner and in accordance with the instructions of the manufacturer of the splice or repair materials. The outer jacket of each splice or repair will be vulcanized with flame-resistant material or made with material that has been accepted by MSHA as flame-resistant; (11) in the event the mining methods or operating procedures cause or contribute to the damage of any trailing cable, the cable will be removed from service immediately and repaired or replaced. Additional precautions will be taken to ensure that in the future the cable is protected and maintained in safe operating condition; (12) permanent warning labels will be installed and maintained on the cover(s) of the power center identifying the location of each sealed short-circuit protection device. The labels will warn miners not to change or alter the sealed short-circuit settings; (13) the alternative method will not be implemented until all miners who have been designated to examine the integrity of seals, verify the short-circuit settings, and proper procedures for examining trailing cables for defects and damage have received the elements of training; and (14) within 60 days after this petition is granted, proposed revisions to part 48 training plans will be submitted to the District Manager for the area in which the mines is located. The elements of training will include the following: (i) Training in mining methods and operating procedures that will protect the trailing cables against damage; (ii) training in the proper procedures for examining the trailing cables to ensure that the cables are in safe operating condition; (iii) training in hazards of setting the instantaneous circuit breakers too high to adequately protect the trailing cables; and (iv) training in how to verify that the circuit interrupting device(s) protecting the trailing cable(s) are properly set and maintained. The petitioner asserts that the proposed alternative method will at all times guarantee no less than the same measure of protection to all miners at the Enlow Fork Mine as would be provided by the existing standard.

Docket Number: M-2010-039 -C.

Petitioner: Consol Pennsylvania Coal Company, 1000 Consol Energy Drive, Canonsburg, Pennsylvania 15317.

Mine: Bailey Mine, MSHA I.D. No. 36-07230, located in Greene County, Pennsylvania.

Regulation Affected: 30 CFR 75.503 (Permissible electric face equipment; maintenance) and 18.35(a)(5)(i) and (ii) (Portable trailing cables and cords).

Modification Request: The petitioner requests a modification of the existing standard to permit the maximum length of trailing cables to be increased to 900 feet for supplying power to loading machines used in the Bailey Mine. The petitioner states that: (1) Longwall development panels are being developed at the mine as part of a continuing mining cycle; (2) the longwall development panels consist of a three-entry system with 275-foot deep cuts to improve roof and abutment pressure control during longwall mining; (3) ventilation is improved by limiting the number of stoppings, which have a built-in ventilation pressure loss factor; (4) this petition will only apply to trailing cables supplying three-phase 995-volt power to loading machines; (5) the maximum lengths of the trailing cables will be 900 feet, and the trailing cables will not be smaller than #2 American Wire Gauge (AWG); (6) all circuit breakers used to protect #2 AWG trailing cables exceeding 700 feet in length will have instantaneous trip units calibrated to trip at 800 Amperes. The trip setting of the circuit breakers will be sealed or locked, and will have permanent, legible labels. Each label will identify the circuit breaker as being suitable for protecting #2 AWG cables and the label will be maintained legible; (7) replacement instantaneous trip units used to protect #2 AWG trailing cables will be calibrated to trip at 800 Amperes and this setting will be sealed or locked; (8) during each production day, persons designated by the operator will visually examine the trailing cables to ensure that the cables are in safe operating condition and that the instantaneous settings of the specially calibrated breakers do not have seals or locks removed and that they do not exceed the settings of 800 Amperes; (9) any trailing cable that is not in safe operating condition will be removed from service immediately and repaired or replaced; (10) each splice or repair in the trailing cables will be made in a workmanlike manner and in accordance with the instructions of the manufacturer of the splice or repair materials. The outer jacket of each splice or repair will be vulcanized with flame-resistant material or made with material that has been accepted by MSHA as flame-resistant; (11) in the event the mining methods or operating procedures cause or contribute to the damage of any trailing cable, the cable will be removed from service immediately and repaired or replaced. Additional precautions will be taken to ensure that in the future the cable is protected and maintained in safe operating condition; (12) permanent warning labels will be installed and maintained on the cover(s) of the power center identifying the location of each sealed or locked short-circuit protection device. The labels will warn miners not to change or alter the sealed short-circuit settings; (13) the alternative method will not be implemented until all miners who have been designated to examine the integrity of seals, verify the short-circuit settings, and proper procedures for examining trailing cables for defects and damage have received the elements of training; and (14) within 60 days after this petition is granted, proposed revisions to part 48 training plans will be submitted to the District Manager for the area in which the mines is located. The elements of training will include the following: (i) Training in mining methods and operating procedures that will protect the trailing cables against damage; (ii) training in the proper procedures for examining the trailing cables to ensure that the cables are in safe operating condition; (iii) training in hazards of setting the instantaneous circuit breakers too high to adequately protect the trailing cables; and (iv) training in how to verify that the circuit interrupting device(s) protecting the trailing cable(s) are properly set and maintained. The petitioner asserts that the proposed alternative method will at all times guarantee no less than the same measure of protection to all miners at the Bailey Mine as would be provided by the existing standard.

Dated: December 20, 2010.
Patricia W. Silvey,
Director, Office of Standards, Regulations and Variances.

[FR Doc. 2010-32355 Filed 12-23-10; 8:45 am]

BILLING CODE 4510-43-P